DEPARTMENT OF THE INTERIOR

National Park Service

[NPS-WASO-NAGPRA-NPS0033923; PPWOCRADN0-PCU00RP14.R50000]

Notice of Inventory Completion: U.S. Department of the Interior, National Park Service, Little Bighorn Battlefield National Monument, Crow Agency, MT

AGENCY: National Park Service, Interior.

ACTION: Notice.

SUMMARY: The U.S. Department of the Interior, National Park Service, Little Bighorn Battlefield National Monument has completed an inventory of human remains, in consultation with the appropriate Indian Tribes or Native Hawaiian organizations, and has determined that there is no cultural affiliation between the human remains and any present-day Indian Tribes or Native Hawaiian organizations. Representatives of any Indian Tribe or Native Hawaiian organization not identified in this notice that wish to request transfer of control of these human remains should submit a written request to Little Bighorn National Monument. If no additional requestors come forward, transfer of control of the human remains to the Indian Tribes or Native Hawaiian organizations stated in this notice may proceed.

DATES: Representatives of any Indian Tribe or Native Hawaiian organization not identified in this notice that wish to request transfer of control of these human remains should submit a written request with information in support of the request to Little Bighorn Battlefield National Monument at the address in this notice by June 17, 2022.

FOR FURTHER INFORMATION CONTACT: Wayne Challoner, Superintendent, Little Bighorn Battlefield National Monument, P.O. Box 39, Crow Agency, MT 59022, telephone (406) 638-3201, email Wayne_Challoner@nps.gov.

SUPPLEMENTARY INFORMATION: Notice is here given in accordance with the Native American Graves Protection and Repatriation Act (NAGPRA), 25 U.S.C. 3003, of the completion of an inventory of human remains under the control of the U.S. Department of the Interior, National Park Service, Little Bighorn Battlefield National Monument, Crow Agency, MT. The human remains were removed from an unknown location.

This notice is published as part of the National Park Service's administrative responsibilities under NAGPRA, 25 U.S.C. 3003(d)(3). The determinations in this notice are the sole responsibility of the Superintendent, Little Bighorn Battlefield National Monument.

Consultation

A detailed assessment of the human remains was made by Little Bighorn Battlefield National Monument professional staff in consultation with representatives of the Assiniboine and Sioux Tribes of the Fort Peck Indian Reservation, Montana; Cheyenne and Arapaho Tribes, Oklahoma [previously listed as Cheyenne-Arapaho Tribes of Oklahoma]; Cheyenne River Sioux Tribe of the Cheyenne River Reservation, South Dakota; Crow Creek Sioux Tribe of the Crow Creek Reservation, South Dakota; Crow Tribe of Montana; Flandreau Santee Sioux Tribe of South Dakota; Lower Brule Sioux Tribe of the Lower Brule Reservation, South Dakota; Northern Arapaho Tribe of the Wind River Reservation, Wyoming [previously listed as Arapaho Tribe of the Wind River Reservation, Wyoming]; Northern Cheyenne Tribe of the Northern Cheyenne Indian Reservation, Montana; Oglala Sioux Tribe [previously listed as the Oglala Sioux Tribe of the Pine Ridge Reservation, South Dakota]; Rosebud Sioux Tribe of the Rosebud Indian Reservation, South Dakota; Santee Sioux Nation, Nebraska; Sisseton-Wahpeton Oyate of the Lake Traverse Reservation, South Dakota; Spirit Lake Tribe, North Dakota; Standing Rock Sioux Tribe of North & South Dakota; Three Affiliated Tribes of the Fort Berthold Reservation, North Dakota; Upper Sioux Community, Minnesota; and the Yankton Sioux Tribe of South Dakota (hereafter referred to as “The Consulted Tribes”).

History and Description of the Remains

At an unknown date, human remains representing, at minimum, one individual were removed from an unknown location by unknown persons. On May 22, 1996, via the U.S. Postal Service, the human remains—a cranium and mandible—were sent anonymously from Longmont, CO to the South Dakota Indian Affairs Office in Pierre, SD. Attached to the human remains was a note stating, “Att: Little Big Horn Remains.” On May 28, 1996, the South Dakota Indian Affairs Office transferred the human remains to the South Dakota State Historical Society Archaeological Research Center (SARC), and on June 4, 1996, the human remains were transferred to Little Bighorn Battlefield National Monument. Following tribal consultation and a request for non-destructive analysis, the human remains were sent to Dr. P. Willey at California State University, Chico, CA, and subsequently were determined to be Native American. No known individual was identified. No associated funerary objects are present.

Pursuant to 43 CFR 10.10(g)(2) and 10.16, the Native American Graves Protection and Repatriation Review Committee may recommend to the Secretary of the Interior that the transfer of control of certain culturally unidentifiable human remains proceed. In February 2022, Little Bighorn Battlefield National Monument requested that the Review Committee recommend to the Secretary that the proposed transfer of control of the culturally unidentifiable Native American human remains in this notice to the Crow Tribe of Montana proceed. The Review Committee, acting pursuant to its responsibility under 25 U.S.C. 3006(c)(5), considered this request at its March 2022 meeting and recommended to the Secretary that the proposed transfer of control proceed. An April 2022 letter on behalf of the Secretary of Interior from the Designated Federal Official transmitted the Secretary's independent review and concurrence with the Review Committee that:

• Little Bighorn Battlefield National Monument consulted with every appropriate Indian Tribe or Native Hawaiian organization,

• none of The Consulted Tribes objected to the proposed transfer of control, and

• Little Bighorn Battlefield National Monument may proceed with the agreed upon transfer of control of these culturally unidentifiable human remains to the Crow Tribe of Montana.

Transfer of control is contingent on the publication of a Notice of Inventory Completion in the Federal Register. This notice fulfills that requirement.

Determinations Made by the U.S. Department of the Interior, National Park Service, Little Bighorn Battlefield National Monument

Officials of the U.S. Department of the Interior, National Park Service, Little Bighorn Battlefield National Monument have determined that:

• Pursuant to 25 U.S.C. 3001(9), the human remains described in this notice are Native American based on osteological analysis.

• Pursuant to 25 U.S.C. 3001(9), the human remains described in this notice represent the physical remains of one individual of Native American ancestry.

• Pursuant to 25 U.S.C. 3001(2), a relationship of shared group identity cannot be reasonably traced between the Native American human remains and any present-day Indian Tribe.

• Pursuant to 43 CFR 10.11(c)(1), a “tribal land” or “aboriginal land” provenience cannot be ascertained.

• Pursuant to 43 CFR 10.10(g)(2) and 10.16, the disposition of the human remains may be to the Crow Tribe of Montana.

Additional Requestors and Disposition

Representatives of any Indian Tribe or Native Hawaiian organization not identified in this notice that wish to request transfer of control of these human remains should submit a written request with information in support of the request to Wayne Challoner, Superintendent, Little Bighorn Battlefield National Monument, P.O. Box 39, Crow Agency, MT 59022, telephone (406) 638-3201, email Wayne_Challoner@nps.gov, by June 17, 2022. After that date, if no additional requestors have come forward, transfer of control of the human remains to the Crow Tribe of Montana may proceed.

The U.S. Department of the Interior, National Park Service, Little Bighorn Battlefield National Monument is responsible for notifying The Consulted Tribes that this notice has been published.

Dated: May 10, 2022.
Melanie O'Brien,
Manager, National NAGPRA Program.

[FR Doc. 2022-10648 Filed 5-17-22; 8:45 am]

BILLING CODE 4312-52-P